DEPARTMENT OF THE INTERIOR

National Park Service

[2253-665]

Notice of Inventory Completion: Museum of Anthropology at Washington State University, Pullman, WA

AGENCY: National Park Service, Interior.

ACTION: Notice.

SUMMARY: The Museum of Anthropology at Washington State University has completed an inventory of human remains, in consultation with the appropriate Indian tribes, and has determined that there is a cultural affiliation between the human remains and present-day Indian tribes. Representatives of any Indian tribe that believes itself to be culturally affiliated with the human remains may contact the Museum of Anthropology at Washington State University. Repatriation of the human remains to the Indian tribes stated below may occur if no additional claimants come forward.

DATES: Representatives of any Indian tribe that believes it has a cultural affiliation with the human remains should contact the Museum of Anthropology at Washington State University at the address below by May 21, 2012.

ADDRESSES: Mary Collins, WSU Museum of Anthropology, P.O. Box 644910, Pullman, WA 99164, telephone (509) 334-2812.

SUPPLEMENTARY INFORMATION: Notice is here given in accordance with the Native American Graves Protection and Repatriation Act (NAGPRA), 25 U.S.C. 3003, of the completion of an inventory of human remains in the possession and control of the Museum of Anthropology at Washington State University. The human remains were removed from Stevens County, WA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Museum of Anthropology at Washington State University professional staff in consultation with representatives of the Confederated Tribes of the Colville Reservation, Washington, and the Spokane Tribe of the Spokane Reservation, Washington.

History and Description of the Remains

In 1979, human remains representing, at minimum, one individual were removed from an unknown location in Stevens County, WA. The remains were included in a large collection of faunal skeletons used as a comparative collection assembled by former WSU Anthropology graduate students Kent Harkins and Christopher Brown. In 2008, the comparative collection was given to the WSU Conner Museum, a unit within the School of Biological Sciences. The human remains were recognized by the Conner Museum staff while accessioning the faunal skeletons and were transferred to the WSU Museum of Anthropology so that the NAGPRA process could be completed. No known individuals were identified. No associated funerary objects are present.

The human remains consist of a single cranium that has been described as that of an adult male Native American, determined by the physical character of the remains, particularly the dental remains. The western border of Stevens County, WA, is the eastern shore of Lake Roosevelt, the reservoir behind the Grand Coulee Dam. While available information does not confirm that the remains were removed from the shores of Lake Roosevelt, it is well known that thousands of burials have been located in the eroding lake margin sediments, and it is extremely likely that these remains were also found along the shores of Lake Roosevelt. Both the Confederated Tribes of the Colville Reservation, Washington, and the Spokane Tribe of the Spokane Reservation, Washington, have reservation lands as well as traditional lands along Lake Roosevelt.

Determinations Made by the Museum of Anthropology at Washington State University

Officials of the Museum of Anthropology at Washington State University have determined that:

• Pursuant to 25 U.S.C. 3001(9), the human remains described in this notice represent the physical remains of one individual of Native American ancestry.

• Pursuant to 25 U.S.C. 3001(2), there is a relationship of shared group identity that can be reasonably traced between the Native American human remains and the Confederated Tribes of the Colville Reservation, Washington and the Spokane Tribe of the Spokane Reservation, Washington.

Additional Requestors and Disposition

Representatives of any other Indian tribe that believes itself to be culturally affiliated with the human remains should contact Mary Collins, WSU Museum of Anthropology, P.O. Box 644910, Pullman, WA 99164, telephone (509) 334-2812, before May 21, 2012. Repatriation of the human remains to the Confederated Tribes of the Colville Indian Reservation, Washington, may proceed after that date if no additional claimants come forward.

The Museum of Anthropology at Washington State University is responsible for notifying Confederated Tribes of the Colville Reservation, Washington, and the Spokane Tribe of the Spokane Reservation, Washington, that this notice has been published.

Dated: April 12, 2012.
David Tarler,
Acting Manager, National NAGPRA Program.

[FR Doc. 2012-9470 Filed 4-18-12; 8:45 am]

BILLING CODE 4310-50-P